DEPARTMENT OF TRANSPORTATION

Federal Transit Administration

Innovative Public Transportation Workforce Development Program (Ladders of Opportunity Initiative)

AGENCY: Federal Transit Administration (FTA), DOT.

ACTION: Notice of funding availability.

SUMMARY: The Federal Transit Administration (FTA) announces a Notice of Funding Availability (NOFA) for the Innovative Public Transportation Workforce Development Program Ladders of Opportunity Initiative. FTA will make available approximately $7.85 million in funds appropriated in Fiscal Year 2013 and Prior Years, in support of this effort. This NOFA solicits proposals that promote innovative nationally and regionally significant public transportation workforce development models and programs that invest in America's economic growth and help build ladders of opportunity into the middle class for American workers.

DATES: Complete proposals are due by 11:59 p.m. EDT on November 4, 2014.

ADDRESSES: All proposals must be submitted electronically through the GRANTS.GOV “APPLY” function. All entities intending to apply should initiate the process of registering on the GRANTS.GOV Web site immediately to ensure completion of registration before the submission deadline. Instructions for applying can be found on FTA's Web site at http://www.fta.dot.gov/grants/13093_3561.html and in the “FIND” module of GRANTS.GOV. Mail and fax submissions will not be accepted.

FOR FURTHER INFORMATION CONTACT: For specific information regarding the areas of research targeted within this NOFA, please contact Betty Jackson, Workforce Development Program Manager, Office of Research, Demonstration and Innovation, phone: (202) 366-1730, fax: (202) 366-3765, or email: betty.jackson@dot.gov. A TDD is available at 1-800-877-8339 (TDD/FIRS).

SUPPLEMENTARY INFORMATION:

I. Discretionary Program Overview

A. Authority

Section 5322(b) of Title 49, United States Code authorizes FTA's discretionary Innovative Public Transportation Workforce Development Program, pursuant to which FTA makes grants to transit agencies and other entities to undertake workforce development activities, including those that create employment training programs, increase minority and female employment in transit, conduct research on public transportation and training needs, and provide training and assistance for minority business opportunities. Under this authority, FTA is issuing this funding opportunity for the Innovative Public Transportation Workforce Development, Ladders of Opportunity Initiative. FTA plans to fund nationally or regionally significant public transportation workforce projects that will assist in building ladders of opportunity for American workers to move into the middle class, as well as build the critical skillset needed in the public transportation industry.

B. Policy Priorities

Supporting a highly-skilled transit workforce is critical to maintaining a competitive and efficient public transportation system. As public transportation experiences significant growth in the United States and investments continue in the physical capital of the nation's transit systems, it is essential to build and maintain the nation's human capital in public transportation as well.

FTA is seeking projects that create a new nationally or regionally significant workforce development program, or augment or replicate a successful existing program that will have benefits for transit agencies or the transit industry. While either type of effort will be considered, programs or approaches with an existing track record of success are likely to receive significant consideration.

FTA is prioritizing applications that focus on one or more of the following activity areas:

• Targeting areas with high rates of unemployment;

• ensuring that persons in local communities directly benefit from employment opportunities created by the construction and operation of new transit capital projects or other public transportation activities within their region;

• providing career pathways that support the movement of targeted populations (e.g. new transit entrants and other underserved populations, etc.) from initial or short-term employment opportunities to sustainable careers;

• giving priority to minorities, women, individuals with disabilities, veterans, low income populations and other underserved populations;

• addressing gaps in areas with current or projected workforce shortages in fields related to public transportation;

• pre-employment training/preparation/tracking; and/or

• recruitment and hiring.

FTA also is requiring that applications provide sufficient evidence of a partnership between the primary applicant and at least one other unrelated entity, such as an educational institution, a public workforce investment system, a labor organization or a non-profit organization. A primary applicant that is not a transit agency or consortium of transit agencies must partner with at least one transit agency. FTA will assess the strength of these partnerships in its evaluation of applications by contacting each partner to determine its level of involvement and financial commitment in the proposed application.

II. Program Information

A. Program Description and Purpose

The Innovative Public Transportation Workforce Development Program assists in the development of innovative programs and activities in public transportation that address the human resources needs of public transportation operators, as well as build pathways to long-term careers in the public transportation industry.

B. Eligibility Information

1. Eligible Applicants

Eligible applicants are urban and rural transit agencies; state departments of transportation (DOTs) providing public transportation services; Metropolitan Planning Organizations; Indian Tribes; nonprofit institutions; institutions of higher education; and private corporations. Only these types of organizations are eligible to apply to this program. The cooperative agreement will be between FTA and the selected organization, which must have a substantial interest in the project and must not simply act as a pass-through for funds. Applicants may apply individually or in a consortium of eligible applicants. The consortium of eligible applicants must include a lead applicant as the primary recipient of federal funds.

Individuals, for-profit entities, and Federal agencies are not eligible to apply to this Program.

2. Strategic Partnerships

To be eligible for funding under this NOFA, applicants must demonstrate that the proposed project is supported by the primary applicant in partnership with one or more external strategic partner(s) with a substantial interest and involvement in the project. An external partner must be an entity that has no direct relationship to the primary applicant. For example, the external partner may not be a department within the applicant's organization. If the primary applicant is not a transit agency or consortia of transit agencies, the external partners must include at least one transit agency as an external partner.

In addition to transit agencies, an external partner entity could include, but is not limited to:

1. Educational institutions, which include entities providing professional accreditation, degree, and/or certification programs, such as universities, community colleges, or trade schools, either non-profit or for-profit.

2. Public workforce investment systems, such as local Workforce Investment Boards and their one-stop systems.

3. Labor organizations, such as labor unions and labor management organizations.

4. Non-profit organizations that support the mission of transit and transportation workforce development.

Applicants should include a letter of confirmed support from each potential partner as part of their application.

Applicants must include sufficient evidence of the partnership. Sufficient evidence may include a memorandum of agreement or letter of intent signed by all parties that describes the parties' roles, responsibilities and financial commitment in the proposed project.

3. Cost Sharing

There are two sources of funds used for this NOFA. SAFETEA-LU and MAP-21. In accordance with 49 U.S.C. Section 5322(c) of MAP-21, there is a minimum 50 percent non-Federal cost share for all funds awarded. Regardless of minimum share requirements, cost sharing is an evaluation criterion and proposals with higher cost share will be considered more favorably. The FTA Administrator will decide the source of funds to be awarded to each applicant. Cash and other high-quality match will be considered more favorably than in-kind cost matching, though all are acceptable. FTA will not approve deferred local share. Recipients must comply with all applicable FTA requirements.

a. Eligible sources of matching funds include:

i. Cash from non-governmental sources other than revenues from providing public transportation services;

ii. Non-farebox revenues from the operation of public transportation service, such as the sale of advertising and concession revenues. A voluntary or mandatory fee that a college, university, or similar institution imposes on all its students for free or discounted transit service is not farebox revenue;

iii. Amounts received under a service agreement with a State or local social service agency or private social service organization;

iv. Undistributed cash surpluses, replacement or depreciation cash funds, reserves available in cash, or new capital;

v. In-kind contributions, such as the market value of in-kind contributions integral to the project may be counted as a contribution toward local share.

4. Other Eligibility Requirements

a. Allowable Activities

Projects must provide direct support to workforce development projects. Capital expenses such as equipment purchases are not considered to be eligible costs unless they directly relate to the workforce development program being supported by FTA funds. Acceptable costs can include, but are not limited to: Faculty/instructors, including salaries and fringe benefits, support staff, classroom space, books, materials and supplies, transportation stipends for students.

b. Unallowable Costs

FTA funds under this program are not intended as an offset to regular transit agency employee salaries and may not be used to cover the regular or overtime salaries of employees at transit agencies offering training. Funds may be used to cover the costs of staff directly engaged in a program management or training role at an agency.

C. Evaluation Criteria, Review and Selection

1. Project Evaluation Criteria

FTA will evaluate the applications submitted according to the criteria set forth below. Proposals must have a minimum threshold of $200,000 and a maximum of $1,000,000.

FTA will assess the extent to which a proposal addresses the following criteria:

a. National Applicability

FTA will evaluate whether the project has national or regional applicability and will provide a replicable model of workforce development practices.

b. Statement of Need

FTA will evaluate the extent to which the project identifies a clear and specific industry need for the Federal investment in the proposed transit workforce development activities. An applicant must submit data and provide evidence of the industry need and value for the proposed program.

c. Innovation

FTA will evaluate the extent to which a project identifies a unique, significant, or innovative approach to address workforce development issues in a transit agency.

d. Project Management and Organizational Capacity

FTA will evaluate the capacity of the applicant and its required partners to effectively staff the proposed initiative and deliver the proposed outcomes, as well as the fiscal, administrative, and performance management capacity to implement the key components of this project. FTA also will evaluate the track record of the applicant and its required partners to implement projects of similar focus, size, and scope.

e. Strategy and Project Work Plan

FTA anticipates awarding proposals for projects that will be completed within 18 to 24 months of receipt of the funding award. The period of performance will be up to 24 months from the date of execution of the grant documents. This performance period includes all necessary implementation and start-up activities, execution of the program, and completion of final deliverables as specified in the applicant's Scope of Work.

FTA will evaluate the project work plan pursuant to the following factors: (1) The presentation of a coherent plan that demonstrates the applicant's complete understanding of all the activities, responsibilities, and costs required to implement each phase of the project and achieve projected outcomes; (2) the demonstrated feasibility and reasonableness of the timeline for accomplishing all necessary implementation activities, including the ability to expeditiously begin training; and (3) the extent to which the budget aligns with the proposed work plan and is justified with respect to the adequacy and reasonableness of resources requested.

f. Outcomes and Deliverables

FTA will evaluate the extent to which the applicant and required partners demonstrate a results-oriented approach to managing and operating the project by providing projections for all applicable outcome categories relevant to measuring the success or impact of the project, describing the products and deliverables that will be produced as a result of the project activities, and fully demonstrating the appropriateness and feasibility of achieving these results. The applicant must include projected outcomes, which will be used as goals for the project.

g. Furthering Ladders of Opportunity

FTA has prioritized and will use the following activity areas of: (1) Targeting areas with high rates of unemployment; (2) ensuring that persons in local communities directly benefit from employment opportunities created by the construction and operation of new transit capital projects or other public transportation activities within their region; (3) providing career pathways that support the movement of targeted populations (e.g. new transit entrants and other underserved populations, etc. from initial or short-term employment opportunities to sustainable careers; (4) giving priority to minorities, women, individuals with disabilities, veterans, low income populations and other underserved populations; (5) addressing gaps in areas with current or projected workforce shortages in fields related to public transportation; (6) pre-employment training/preparation/tracking; and/or (7) recruitment and hiring. Further, these activity areas will be used to evaluate the extent to which an applicant and its required partners demonstrate how this program or project can assist in building ladders of opportunity to the middle class; how the proposed program can connect people and economic opportunities in public transportation; and how it can build pathways to new job opportunities in the transit field.

D. Review and Selection Process

A technical evaluation committee will review proposals under the project selection criteria. Members of the technical evaluation committee and the FTA Workforce Program Manager reserve the right to screen and rate the applications it receives and to seek clarification from any applicant about any statement in its application that FTA finds ambiguous and/or to request additional documentation to be considered during the evaluation process to clarify information contained within the proposal.

After consideration of the findings of the technical evaluation committee, the FTA Administrator will determine the final selection and amount of funding for each project. FTA may consider geographic diversity and the applicant's receipt of other discretionary awards in its award decisions.

III. Proposal Preparation and Submission

A. Proposal Submission Process

Applicants may submit more than one proposal. However, each proposal must support a new idea or program and not be duplicative. Submission of multiple proposals from a single entity will not increase that entity's chances of being awarded a grant.

Complete proposals for the Innovative Public Transportation Workforce Development Program Ladders of Opportunity Initiative must be submitted electronically through the GRANTS.GOV Web site by 11:59 EDT on November 4, 2014. Late applications will not be accepted. Proposers are encouraged to begin the process of registration on the GRANTS.GOV site well in advance of the submission deadline. Registration is a multi-step process, which may take several weeks to complete before an application can be submitted. Registered proposers may still be required to take steps to keep their registration up to date before submissions can be made successfully: (1) Registration in the Systems for Award Management (SAM) (formerly the Central Contracting Registry (CCR) system) is required; and (2) persons making submissions on behalf of the Authorized Organization Representative (AOR) must be authorized in GRANTS.GOV by the AOR to make submissions.

Eligible entities must have or must secure a DUNS number for the purposes of formal application and potential entry into a cooperative agreement with FTA. The DUNS number is a unique nine-character number that identifies your organization. It is a tool of the federal government to track how federal money is distributed. Each FTA applicant's DUNS number will be maintained as part of the applicant's profile. This number can be obtained free through the Dun and Bradstreet (D&B) Web site (http://www.dnb.com/US/duns_update/).

In addition, each entity that applies and does not have an exemption under 2 CFR § 25.110 should:

(1) Be registered in the System for Award Management (SAM) prior to submitting an application or plan (www.sam.gov), and

(2) Maintain an active SAM registration with current information at all times during which it has an active Federal award or an application or plan under consideration by an agency.

B. Proposal Content

The applicant should submit a project narrative statement describing the project objectives, proposed work tasks, outputs, and benefits of the proposed project for which Federal assistance is being requested. If the project is a proposal seeking support for an existing program, it should describe the proposed FTA-supported project within the context of the larger effort.

The narrative also should indicate whether matching funds will be provided, the expected duration of the project, and other information that would assist FTA to understand and evaluate the project. Each submission for a project narrative statement should not exceed 12 pages (single-spaced, single-sided, 12 point font on 8.5x11 inch paper) and must include the information listed below:

1. Project Title, Objective(s), and Contact Person

At the top of the document, state the title of the project and provide 2-3 sentences describing the intended project goals and outcomes. List the contact person for this application along with his or her address, title, phone number, fax number, and email address.

2. Statement of the Problem(s)

Provide a description of the new or existing program to be supported by the proposed project. Describe the national or regional impact of this project. Characterize the workforce issue or problem present in the public transportation industry that the project directly addresses. Describe how the project will specifically address the issue for the applying organization. Explain why the specified approach is being taken as opposed to others, and how its innovative aspects have potential for nationwide or regional application. In addition to innovative workforce practices, cite the unique features of the project, such as design or technological innovations, reductions in cost or time, environmental benefits, benefits to riders, or social and community involvement. Finally, identify uncertainties and external factors that could affect the schedule, cost, or success of the program. Supporting documentation may be provided as an attachment that will not count toward the total page limit. Such information will be considered supplementary and will not necessarily be considered by FTA in the project selection process.

3. Geographic Location, Target Groups, and Emphasis Areas

Give a precise location or locations of the project and identify the area(s), and target group(s) to be directly served by the proposed effort. Maps or other graphic aids may be attached as needed.

4. Strategic Partners

Provide a list of the strategic partner(s) that will be participating in the project, as well as a description of each organization, the unique skill sets and capacity they will bring to the project, and the activities they will carry out. Also provide documentation of the strategic partnership, such as a memorandum of agreement or letter of intent signed by all parties that describes the parties' roles, responsibilities and financial commitment in the proposed project.

5. Scope of Work

Outline a plan of action, organized by work task, pertaining to the scope and detail of how the proposed work will be accomplished. List estimated milestone dates for major activities and products. Activities should be justified in terms of eligible program activities and proposals should clearly demonstrate the connection between the planned work and at least one of the specific program activities cited. The Scope of Work also should address supporting activities, such as marketing plans for engaging participants and/or dissemination strategies for sharing the results, if such are critical to the success of the supported program.

Proposals must describe at least one final project deliverable and how it will improve the state of the practice. Final products and project deliverables must be made available at no cost to FTA and other agencies at the project's close for dissemination and sharing throughout the industry. Acceptable final products and deliverables include, but are not limited to, class materials, Web sites or software, recruitment materials, flyers, brochures and reports. This product is in addition to the performance reporting requirements described in Section 6 below. Additionally, a written Final Report that is consistent with FTA Report guidelines: http://ftanet.fta.dot.gov/TRI/Documents/Preparation%20Instructions%20for%20FTA%20Final%20Reports.pdf is required.

If a phased plan is being proposed, describe the context and additional phases on a separate page or separate pages.

6. Period of Performance

Provide a schedule for completion of tasks assuming a total period of performance of up to 24 months. If a phased plan is being proposed, describe schedule for additional phases on a separate page or separate pages (not counted toward the page maximum).

7. Cost/Budget Proposal

Provide the Federal amount requested, and a cost proposal indicating staffing levels, hours, and direct costs for the total project and amount of funding requested from FTA. The proposal must describe the source and amount of matching funds. As appropriate, the cost proposal also must set forth the nature and value of in-kind resources that team members will contribute to meet the match requirement.

Provide a line-item budget for the total project, with enough detail to indicate the various key components of the project. As FTA may elect to fund only a portion of a proposal rather than the full amount requested by the applicant, the budget should set forth the minimum amount necessary to fund specific project components. As funding for the Innovative Public Transportation Workforce Development Program (Ladders of Opportunity Initiative) is limited, an application that can be scaled may receive additional consideration for funding.

8. Performance Measurement

Provide an approach for demonstrating the local, nationwide or regional impact of the project on the transit industry and broader employment opportunities, including the number of jobs directly supported or created by the program. The proposal should include a description of the applicant's plan for recording the outcomes and reporting in a Final Report, at a minimum, the following to FTA at the end of the project:

• The number of individuals affected by the project. Applicants should define “affected individuals” in terms that make sense for the proposed project.

○ For example, other common reported outcomes include:

Target Individuals (Veterans, Women, Youth, Incumbent Workers, etc.);

Number of eligible individuals entered into program;

Number of successful completers (completed training program, achieved applicable credential, etc.);

Number of placed new workers and/or advanced incumbent workers;

Number of retained workers after 90 days.

• The costs of the project and the share of federal investment.

• At least one measure of quality. Quantitative metrics are preferred, but qualitative metrics will be considered provided they are based on the experiences of those affected by the program (as opposed to the self-assessment of the applicant or partner agencies). Metrics could include, but are not limited to, survey results; exit interviews; longitudinal tracking of staff (during the period of performance only).

• A 1-2 page project description that will state the project's initial goals and measure achievements against those goals. This statement can also include “lessons learned.”

• A 1-2 page statement of applicability to other entities. Once the program is complete, the applicant must describe how the project could be scaled and/or altered for application elsewhere, and what types of benefits could be realized by doing so.

• Any other performance measure that the applicant determines would describe the strengths and weaknesses of the project.

As part of the proposal, provide projections (for quantitative measures) or short hypotheses (for qualitative measures) of what type of impact/performance FTA could expect from the project.

9. Project Management

Describe the applicant's approach for managing and staffing the project, including the distribution of responsibilities among partner entities and an organizational chart, if applicable. Include responsibilities such as regular reporting, performance measurement, and technical/management interactions with FTA. Quarterly cost and activity progress reporting is required and can be submitted in the FTA electronics grant award system and by email submission to the FTA Workforce Program Manager. A template can be provided by FTA.

10. Project Staff

List each organization, operator, consultant, or other key individuals who will work on the project, along with short descriptions of their appropriate technical expertise and experience (such as past, relevant research). Attach resumes or curriculum vitae if available. Project staff resumes or curriculum vitae will not count towards the total page count for proposal submissions.

IV. Award Information

FTA will award grants of a minimum of $200,000 and a maximum of $1,000,000. FTA intends to award as many meritorious projects as possible, and may elect to award less than the amount requested by an applicant. In addition, geographic diversity and the applicant's receipt of other discretionary awards may be considered in FTA's award decisions.

a. Notification. After FTA has selected the proposals to be funded, successful applicants will be notified by email or telephone of their status. Upon notification of intent to award funds, FTA may withdraw its offer to provide Federal assistance if the recipient does not provide a formal application consistent with its proposal submission within 90 days following the date of the offer.

b. Execution of the FTA Agreement. Successful applicants will be instructed by FTA on how to execute their cooperative agreements in FTA's electronic grants management system.

c. Start Date and Incurred Costs. Absent special circumstances, costs incurred prior to FTA award are not eligible as project expenses. Absent highly unusual circumstances, FTA cannot retroactively approve a project. The recipient may begin to incur project costs as of the date the award letter is signed by FTA and the awardee executes the final signature. FTA expects grantees to implement the projects awarded as soon as possible and to fully expend grant funds during the period of performance, recognizing that full transparency and accountability are required for all expenditures.

V. Contacts for Additional Information

Prospective applicants may visit the following Web sites for more information:

• http://www.fta.dot.gov.

• For more on managing projects in accordance with FTA Circular 6100.1D: Transit Research and Technology Programs: Application Instructions and Program Management Guidelines: http://fta.dot.gov/legislation_law/12349_12669.html. This Circular includes requirements on project management and administration including quarterly reporting, financial management, and payment.

For general program information, please use the contact information identified in the front of this notice. Please contact the Grants.gov Helpdesk for assistance with electronic applications at http://www.grants.gov. You also may contact support@grants.gov or call toll-free (800) 518-4726.

Therese W. McMillan,
Acting Administrator.

[FR Doc. 2014-21155 Filed 9-4-14; 8:45 am]

BILLING CODE 4910-57-P